DEPARTMENT OF LABOR

Mine Safety and Health Administration

Petitions for Modification

The following parties have filed petitions to modify the application of existing safety standards under section 101(c) of the Federal Mine Safety and Health Act of 1977.

1. Blue Mountain Energy, Inc.

[Docket No. M-2005-076-C]

Blue Mountain Energy, Inc., 3607 County Road #65, Rangely, Colorado 81648 has filed a petition to modify the application of 30 CFR 75.312(c) (Main mine fan examinations and records) to its Deserado Mine (MSHA I.D. No. 05-03505) located in Rio Blanco County, Colorado. The petitioner requests a modification of the existing standard to permit testing of the automatic fan signal device at least every 31 days without shutting down the fan and without removing miners from the mine. The petition has listed in this petition specific procedures that will be followed when the proposed alternative method is implemented. The petitioner asserts that the proposed alternative method would provide at least the same measure of protection as the existing standard.

2. Alcoa, Inc.

[Docket No. M-2005-077-C]

Alcoa, Inc., 3990 John D. Harper Road, Rockdale, Texas 76567 has filed a petition to modify the application of 30 CFR 77.803 (Fail safe ground check circuits on high-voltage resistance grounded systems) to its Three Oaks Mine (MSHA I.D. No. 41-04085) located in Lee and Bastrop Counties, Texas, and its Sandow Mine (MSHA I.D. No. 41-00356) located in Lee and Milam Counties, Texas. The petitioner requests a modification of the existing standard to permit disabling the ground fault and ground check circuits while lowering and raising a dragline boom or mast using the dragline on-board generators. The petitioner has listed specific procedures in this petition that will be followed when the proposed alternative method is implemented. The petitioner asserts that the proposed alternative method would provide at least the same measure of protection as the existing standard.

3. Advent Mining, LLC

[Docket No. M-2005-078-C]

Advent Mining, LLC, 3603 State Route 370, Sebree, Kentucky 42455 has filed a petition to modify the application of 30 CFR 75.1101-1(b) (Deluge-type water spray systems) to its Onton #9 Mine (MSHA I.D. No. 15-18547) located in Webster County, Kentucky. The petitioner requests a modification of the existing standard to permit an alternative method compliance in lieu of using blow-off dust covers for the nozzles of a deluge-type water spray system. The petitioner asserts that the proposed alternative method would provide at least the same measure of protection as the existing standard.

Request for Comments

Persons interested in these petitions are encouraged to submit comments via e-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before January 18, 2006. Copies of these petitions are available for inspection at that address.

Dated at Arlington, Virginia this 13th day of December 2005.
Rebecca J. Smith,
Acting Director, Office of Standards, Regulations, and Variances.

[FR Doc. E5-7504 Filed 12-16-05; 8:45 am]

BILLING CODE 4510-43-P